DEPARTMENT OF ENERGY

Federal Energy Regulatory Commission

[Docket No. RP99-166-005]

Stingray Pipeline Company, L.L.C.; Notice of Compliance Filing

March 25, 2003.

Take notice that on March 12, 2003, Stingray Pipeline Company, L.L.C. (Stingray) tendered for filing a refund report to comply with Article 2.4 of the Stipulation and Agreement approved by the Commission on December 24, 2002.¹

¹ Docket No. RP99-166-000, 101 FERC · 61,365 (2002).

Stingray states that on September 19, 2002, it filed a stipulation and agreement (Settlement) to resolve all issues pending in this proceeding. By letter order dated December 24, 2002, the Commission approved the settlement and directed Stingray to notify the Commission within 30 days after making a lump-sum payment in the amount of $4.5 million to the Indicated Shippers. As directed by the Commission, Stingray is submitting the statement of compliance with the Commission as notification that such payment has been forwarded to the Indicated Shippers.

Any person desiring to protest said filing should file a protest with the Federal Energy Regulatory Commission, 888 First Street, NE., Washington, DC 20426, in accordance with section 385.211 of the Commission's rules and regulations. All such protests must be filed on or before the comment date. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: April 1, 2003.

Magalie R. Salas,
Secretary.

[FR Doc. 03-7778 Filed 3-31-03; 8:45 am]

BILLING CODE 6717-01-P